NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission: Revision.

2. The title of the information collection: Policy Statement for the “Criteria for Guidance of States and NRC in Discontinuance of NRC Regulatory Authority and Assumption Thereof By States Through Agreement,” Maintenance of Existing Agreement State Programs, Request for Information Through the Integrated Materials Performance Evaluation Program (IMPEP) Questionnaire, and Agreement State Participation in IMPEP.

3. The form number if applicable: Not applicable.

4. How often the collection is required: There are four activities that occur under this collection: information collection activities required by the IMPEP questionnaire in preparation for an IMPEP review conducted no less frequently than every four years; while the following activities are all collected on an annual basis—policy statement addressing requirements for new Agreement States; participation by Agreement States in the IMPEP reviews; and annual requirements for Agreement States to maintain their programs.

5. Who is required or asked to report: 34 Agreement States who have signed Section 274b. Agreements with NRC.

6. An estimate of the number of annual responses: For States interested in becoming an Agreement State, approximately one State per year. For Agreement State participation in IMPEP reviews: 10 (7 State, 1 NRC Region, and 2 Follow-up reviews per year). For maintenance of existing Agreement State programs: 34 States. For Agreement State response to IMPEP questionnaires: 7 States. The total number of annual responses is 52.

7. The estimated number of annual respondents: 34.

8. An estimate of the total number of hours needed annually to complete the requirement or request: For States interested in becoming Agreement States: Approximately 4,300 hours. For Agreement State participation in 10 IMPEP reviews (7 Agreement State, 1 NRC Regional Office and 2 Follow-up reviews): 360 hours (an average of 36 hours per review). For maintenance of existing Agreement State programs: 255,600 hours (an average of approximately 7,517 hours per State for 34 Agreement States). For Agreement State response to 7 IMPEP questionnaires annually: 371 hours (an average of 53 hours per program). The total number of hours expended annually is 260,631 hours.

9. An indication of whether Section 3507(d), Public Law 104-13 applies: Not applicable.

10. Abstract: States wishing to become Agreement States are requested to provide certain information to the NRC as specified by the Commission's Policy Statement, “Criteria for Guidance of States and NRC in Discontinuance of NRC Regulatory Authority and Assumption Thereof By States Through Agreement.” Agreement States need to ensure that the Radiation Control Program under the Agreement remains adequate and compatible with the requirements of Section 274 of the Atomic Energy Act (Act) and must maintain certain information. NRC conducts periodic evaluations through IMPEP to ensure that these programs are compatible with the NRC's program, meet the applicable parts of the Act, and are adequate to protect public health and safety.

A copy of the final supporting statement may be viewed free of charge at the NRC Public Document Room, One White Flint North, 11555 Rockville Pike, Room O-1 F21, Rockville, MD 20852. OMB clearance requests are available at the NRC World Wide Web site: http://www.nrc.gov/public-involve/doc-comment/omb/index.html. The document will be available on the NRC home page site for 60 days after the signature date of this notice.

Comments and questions should be directed to the OMB reviewer listed below by April 26, 2007. Comments received after this date will be considered if it is practical to do so, but assurance of consideration cannot be given to comments received after this date. OMB Desk Officer, Office of Information and Regulatory Affairs (3150-0183), NEOB-10202, Office of Management and Budget, Washington, DC 20503. Comments can also be submitted by telephone at (202) 395-3087.

The NRC Clearance Officer is Margaret A. Janney, (301) 415-7245.

Dated at Rockville, Maryland, this 20th day of March 2007.
For the Nuclear Regulatory Commission.
Margaret A. Janney,
NRC Clearance Officer, Office of Information Services.

[FR Doc. E7-5587 Filed 3-26-07; 8:45 am]

BILLING CODE 7590-01-P